GENERAL SERVICES ADMINISTRATION

Privacy Act of 1974; Privacy Act System of Records

AGENCY: General Services Administration

ACTION: Notice of proposed system of records.

SUMMARY: The General Services Administration (GSA), Public Buildings Service (PBS) proposes to establish a system of records subject to the Privacy Act of 1974, 5 U.S.C. 552a. The system of records, eLease (GSA/PBS-5), is an electronic system for managing Federal real property leases and for tracking leasing projects and associated documents. The system will ensure that the leasing program collects, assembles, and maintains information necessary for efficient and cost effective operation, control, and management of Federal leasing by PBS. The system will include personal information of individuals who engage in leasing activities with PBS.

DATES: The system of records will become effective on January 8, 2007 unless comments received on or before that date result in a contrary determination.

ADDRESSES: Comments should be directed to the eLease Program Manager, Systems Development Division (PGAB), Office of the PBS Chief Information Officer, General Services Administration, 1800 F Street NW, Washington DC 20405.

FOR FURTHER INFORMATION CONTACT: GSA Privacy Act Officer (CIB), General Services Administration, 1800 F Street NW, Washington, DC 20405; telephone (202) 501-1452.

Dated: October 25, 2006.
Cheryl M. Paige,
Acting Director, Office of Information Management.

GSA/PBS-5

System name:

eLease

System location:

The system records and documents are maintained at the Enterprise Service Center of the GSA Public Buildings Service (PBS). Contact the System Manager for additional information.

Categories of individuals covered by the system:

The system maintains information on individuals, as well as businesses, who have made an offer on a PBS lease solicitation or who have entered into a contract with PBS regarding a building lease.

Categories of records in the system:

The system maintains information required throughout the lifecycle of a PBS building lease including information about leases, offerors, and lessors. In addition to business contact and identification information (address, telephone number, and Taxpayer Identification Number (TIN)), the system includes personal information on individuals who use personal contact and identification information (home address, telephone, e-mail, and fax numbers, and Social Security Number) for business purposes as sole proprietors.

Authorities for maintenance of the system:

Federal Property and Administrative Services Act, as amended (40 U.S.C. Sec. 585).

Purpose:

To establish and maintain a system for operating, controlling, and managing the Federal property leasing program; tracking leasing projects and workflow activities; and managing associated documents.

Routine uses of the system records, including categories of users and their purpose for using the system:

System information may be accessed and used by authorized GSA employees and contractors to conduct official duties associated with Federal government building leases. Information from this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM), the Office of Management and Budget (OMB), the Government Accountability Office (GAO) or other Federal agency when the information is required for program evaluation purposes.

e. To another Federal agency in connection with the hiring or retention of an employee; the issuance of a security clearance; the reporting of an investigation; clarifying a job; the letting of a contract; or the issuance of a grant, license, or other benefit to the extent that the information is relevant and necessary to a decision.

f. To a Member of Congress or his or her staff on behalf of and at the request of the individual who is the subject of the record.

g. To an expert, consultant, or contractor of GSA in the performance of a Federal duty to which the information is relevant.

h. To the National Archives and Records Administration (NARA) for records management purposes.

Policies and practices for storing, retrieving, accessing, retaining, and disposing of system records:

Storage:

System records and documents are electronically stored on servers and/or compact discs.

Retrievability:

Records may be retrieved by name and/or other personal identifier or appropriate type of designation.

Safeguards:

System records are safeguarded in accordance with the requirements of the Privacy Act, the Computer Security Act, and the eLease System Security Plan. Technical, administrative, and personnel security measures are implemented to ensure confidentiality and integrity of the data. Security measures include password protections, assigned roles, and transaction tracking.

Retention and disposal:

Disposition of records will be according to the National Archives and Records Administration (NARA) guidelines, set forth in the GSA Records Maintenance and Disposition System (OAD P 1820.2A) handbook.

System manager and address:

eLease Program Manager, Systems Development Division (PGAB), Office of the PBS Chief Information Officer, General Services Administration, 1800 F Street NW, Washington DC 20405.

Notification procedure:

Individuals may obtain information about their records from the eLease Program Manager at the above address.

Record access procedures:

Requests from individuals for access to their records should be addressed to the eLease Program Manager. GSA rules for individuals requesting access to their records are published in 41 CFR part 105-64.

Contesting record procedures:

Individuals may contest their records’ contents and appeal determinations according to GSA rules published in 41 CFR part 105-64.

Record source categories:

Information is obtained from individuals who are offerors or lessors of GSA PBS building leases.

[FR Doc. E6-20201 Filed 11-28-06; 8:45 am]

BILLING CODE 6820-34-S